FEDERAL DEPOSIT INSURANCE CORPORATION

Agency Information Collection Activities: Submission for OMB Review; Comment Request (3064-0166)

AGENCY: Federal Deposit Insurance Corporation (FDIC).

ACTION: Notice of information collection to be submitted to OMB for review and approval under the Paperwork Reduction Act.

SUMMARY: The FDIC, as part of its continuing effort to reduce paperwork and respondent burden, invites the general public and other Federal agencies to take this opportunity to comment on continuing information collections, as required by the Paperwork Reduction Act of 1995 (44 U.S.C. chapter 35). On March 11, 2009, the FDIC solicited public comment for a 60-day period on full clearance of the following collection currently approved by OMB on an emergency basis: Temporary Liquidity Guarantee Program (TLGP), OMB Control No. 3064-0166. No comments were received. Therefore, the FDIC hereby gives notice of its submission of the TLGP information collection to OMB for review.

DATES: Comments must be submitted on or before July 6, 2009.

ADDRESSES: Interested parties are invited to submit written comments to the FDIC by any of the following methods. All comments should refer to the name of the collection:

• http://www.FDIC.gov/regulations/laws/federal/notices.html.

• E-mail: comments@fdic.gov. Include the name of the collection in the subject line of the message.

• Mail: Leneta G. Gregorie (202-898-3719), Counsel, Room F-1064, Federal Deposit Insurance Corporation, 550 17th Street, NW., Washington, DC 20429.

• Hand Delivery: Comments may be hand-delivered to the guard station at the rear of the 17th Street Building (located on F Street), on business days between 7 a.m. and 5 p.m.

A copy of the comments may also be submitted to the OMB desk officer for the FDIC: Office of Information and Regulatory Affairs, Office of Management and Budget, New Executive Office Building, Washington, DC 20503.

FOR FURTHER INFORMATION CONTACT: Leneta G. Gregorie at the address identified above.

SUPPLEMENTARY INFORMATION: Submission for OMB review to obtain full clearance of the following collection of information currently approved on an emergency basis:

Title: Temporary Liquidity Guarantee Program.

OMB Number: 3064-0166.

Estimated Number of Respondents: (The estimated number of respondents for several reporting categories has been adjusted downward from initial estimates to better reflect actual experience since implementation of the program.)

Initial report of amount of senior unsecured debt—275.

Subsequent reports on amount of senior unsecured debt—275.

Opt-out/opt-in notice—14,932.

Notice of debt guarantee—275.

Notice of transaction account guarantee—8,380.

Notice of issuance of debt guarantee—550.

Notice of termination of participation—300.

Debt-holder guarantee claims—2,600.

Request for increase in debt guarantee limit—275.

Request for increase in presumptive debt guarantee limit—50.

Request to opt-in to debt guarantee program—5.

Request by affiliate to participate in debt guarantee program—275.

Application to issue mandatory convertible debt: 25.

Application by certain entities to issue FDIC-guaranteed debt after 6/30/09: 25.

Application to issue senior, unsecured, non-guaranteed debt after 6/30/09: 250.

Frequency of Response:

Initial report of amount of senior unsecured debt—once.

Subsequent reports on amount of senior unsecured debt—4.

Opt-out/opt-in notice—once.

Notice of debt guarantee—once.

Notice of transaction account guarantee—once.

Notice of issuance of debt guarantee—250.

Notice of termination of participation—once.

Debt-holder guarantee claims—once.

Request for increase in debt guarantee limit—once.

Request for increase in presumptive debt guarantee limit—once.

Request to opt-in to debt guarantee program—once.

Request by affiliate to participate in debt guarantee program—once.

Application to issue mandatory convertible debt—5.

Application by certain entities to issue FDIC-guaranteed debt after 6/30/09: once.

Application to issue senior unsecured non-guaranteed debt after 6/30/09: once.

Affected Public: FDIC-insured depository institutions, thrift holding companies, bank and financial holding companies.

Estimated Time per Response: (The FDIC did not receive any comments on its initial burden estimates. Nevertheless, burden estimates for some categories of reports have been increased, in several cases significantly, based on informal feedback from program participants.)

Initial report of amount of senior unsecured debt—1 hour.

Subsequent reports on amount of senior unsecured debt—4 hours.

Opt-out/opt-in notice—1 hour.

Notice of debt guarantee—16 hours.

Notice of transaction account guarantee—4 hours.

Notice of issuance of debt guarantee—3 hours.

Notice of termination of participation—3 hours.

Debt-holder guarantee claims—3 hours.

Request for increase in debt guarantee limit—24 hours.

Request for increase in presumptive debt guarantee limit—16 hours.

Request to opt-in to debt guarantee program—16 hours.

Request by affiliate to participate in debt guarantee program—16 hours.

Application to issue mandatory convertible debt—40 hours.

Application by certain entities to issue FDIC-guaranteed debt after 6/30/09: 2 hours.

Application to issue senior, unsecured, non-guaranteed debt after 6/30/09: 8 hours.

Total Annual Burden: 382,214 hours (This reflects an adjustment of −1,822,061 hours and a program change of +600 hours from previous estimates.)

General Description of Collection: This collection includes reporting, recordkeeping and disclosure requirements associated with the FDIC's TLGP. The TLGP is comprised of (1) a guarantee by the FDIC of unsecured, unsubordinated debt of participating, insured, depository institutions, their bank holding companies, financial holding companies, and thrift holding companies (other than unitary thrift holding companies) issued between October 14, 2008, and October 31, 2009, with guarantees expiring on the earlier of the date of maturity or December 31, 2012, and with a system of fees to be paid by these institutions for such guarantees; and (2) a 100 percent guaranty of non-interest bearing, transaction accounts held by insured depository institutions until December 31, 2009 (FDIC guarantees). The TLGP is designed to strengthen confidence and encourage liquidity in the banking system in order to ease lending to creditworthy businesses and consumers. The reporting, recordkeeping and disclosure requirements apply to eligible entities participating in either the Debt Guarantee Component of the program or the Deposit Guarantee Component or both. The information obtained allows the FDIC to monitor its exposure under the TLGP and determine assessments for entities participating in the program. The required disclosures ensure that depositors, debt holders, and the general public are on notice as to which entities are participating in the program, the extent to which deposits in noninterest-bearing transaction accounts are FDIC-insured, and whether newly-issued, senior, unsecured debt is guaranteed by the FDIC.

Request for Comment

Comments are invited on: (a) Whether this collection of information is necessary for the proper performance of the FDIC's functions, including whether the information has practical utility; (b) the accuracy of the estimates of the burden of the information collection, including the validity of the methodologies and assumptions used; (c) ways to enhance the quality, utility, and clarity of the information to be collected; and (d) ways to minimize the burden of the information collection on respondents, including through the use of automated collection techniques or other forms of information technology.

All comments will become a matter of public record.

Dated at Washington, DC, this 2nd day of June, 2009.
Federal Deposit Insurance Corporation.
Robert E. Feldman,
Executive Secretary.

[FR Doc. E9-13149 Filed 6-4-09; 8:45 am]

BILLING CODE 6714-01-P